DEPARTMENT OF COMMERCE

National Oceanic and Atmospheric Administration

50 CFR Part 648

[Docket No. 010220043-1132-1132; I.D. 103101A]

Fisheries of the Northeastern United States; Atlantic Herring Fishery; Total Allowable Catch Harvested for Management Area 1A

AGENCY: National Marine Fisheries Service (NMFS), National Oceanic and Atmospheric Administration (NOAA), Commerce.

ACTION: Closure of directed fishery for Management Area 1A.

SUMMARY: NMFS announces that 95 percent of the Atlantic herring total allowable catch (TAC) allocated to Management Area 1A (Area 1A) for the fishing year 2001 has been harvested. Therefore, federally permitted vessels may not fish for, catch, possess, transfer or land more than 2,000 lb (907.2 kg) of Atlantic herring harvested from Area 1A per trip or calendar day for the remainder of the 2001 fishery (through December 31, 2001). Regulations governing the Atlantic herring fishery require publication of this notification when 95 percent of the Atlantic herring TAC allocated to Area 1A has been harvested to advise vessel and dealer permit holders that no TAC is available for the directed fishery for Atlantic herring harvested from Area 1A.

DATES: Effective 0001 hrs local time, November 10, 2001, through 2400 hrs local time, December 31, 2001.

FOR FURTHER INFORMATION CONTACT: David M. Gouveia, Fishery Policy Analyst, at (978) 281-9280.

SUPPLEMENTARY INFORMATION: Regulations governing the Atlantic herring fishery are found at 50 CFR part 648. The regulations require annual specification of optimum yield, domestic and foreign fishing, domestic and joint venture processing, and management area TACs. The specifications are allocated on an annual basis from January through December. The TAC allocated to Area 1A for the Atlantic herring fishery for the 2001 fishing year was 60,000 mt (66 FR 28846, May 25, 2001).

The regulations at 50 CFR 648.202 require the Administrator, Northeast Region, NMFS (Regional Administrator) to monitor the Atlantic herring fishery in each of the four management areas designated in the FMP and, based upon dealer reports, state data, and other available information, to determine when the harvest of Atlantic herring is projected to reach 95 percent of the TAC allocated to that area. When such a determination is made, NMFS is required to publish notification in the Federal Register advising and notifying vessel and dealer permit holders that, effective upon a specific date, vessels may not fish for, catch, possess, transfer or land more than 2,000 lb (907.2 kg) of herring per trip or calendar day from the specified management area for the remainder of the fishing year.

The Regional Administrator has determined, based upon dealer reports and other available information, that 95 percent of the Atlantic herring TAC allocated to Area 1A for the fishing year 2001 has been harvested. Therefore, effective 0001 hrs local time, November 10, 2001, federally permitted vessels may not fish for, catch, possess, transfer or land more than 2,000 lb (907.2 kg) of Atlantic herring harvested from Area 1A per trip or calendar day for the remainder of the 2001 fishery, through December 31, 2001, 2400 hrs local time. The fishing year 2002 TAC for the directed Atlantic herring fishery will open on January 1, 2002. Vessels may transit an area that is limited to the 2,000-lb (907.2-kg) limit with greater than 2,000 lb (907.2 kg) of herring on board, providing all fishing gear is stowed and not available for immediate use as required by § 648.23 (b). A vessel may land in an area that is limited to the 2,000-lb (907.2-kg) limit specified in § 648.202(a) with greater than 2,000 lb (907.2 kg) of herring on board, providing such herring were caught in an area or areas not subject to the 2,000-lb (907.2-kg) limit and providing all fishing gear is stowed and not available for immediate use as required by § 648.23 (b). Effective November 10, 2001, federally permitted dealers are also advised that they may not purchase Atlantic herring from federally permitted Atlantic herring vessels that harvest more than 2,000 lb (907.2 kg) of Atlantic herring from Area 1A through December 31, 2001, 2400 hrs local time.

Classification

This action is required by 50 CFR part 648 and is exempt from review under Executive Order 12866.

Authority: 16 U.S.C. 1801 et seq.

Dated: October 31, 2001.
Bruce C. Morehead,
Acting Director, Office of Sustainable Fisheries, National Marine Fisheries Service.

[FR Doc. 01-27822 Filed 11-1-01; 3:13 pm]

BILLING CODE 3510-22-S